DEPARTMENT OF HEALTH AND HUMAN SERVICES

Office of the Secretary

Centers for Medicare & Medicaid Services; Delegation of Authority

Notice is hereby given that I have delegated to the Administrator, Centers for Medicare & Medicaid Services (CMS), or his or her successor, the authorities currently vested in the Secretary under section 1142(c)(6) [42 U.S.C. 1320b-12(c)(6)] of Title XI of the Social Security Act (the Act), as amended, to conduct and support supplementation and redesign of existing CMS data sets and databases, including the collection of new information, to enhance databases for research purposes, and the design and development of new databases that would be used in outcomes and effectiveness research as set out in section 1142(a) [42 U.S.C. 1320b-12(a)] of Title XI of the Act.

Limitations

The delegation of authority granted herein under section 1142(c)(6) [42 U.S.C. 1320b-12] of the Act does not supersede previous delegations of this authority to the Director, Agency for Healthcare Research and Quality.

The delegation of authority granted herein under section 1142(c)(6) [42 U.S.C. 1320b-12(c)(6)] of the Act, as amended, is limited to the collection and maintenance of data related to CMS' programs.

The authority under section 1142(c)(6) [42 U.S.C. 1320b-12] of the Act shall be exercised under the Department's policy on regulations and the existing delegation of authority to approve and issue regulations.

This delegation of authority may be re-delegated.

This delegation of authority is effective immediately.

I hereby affirm and ratify any actions taken by the Administrator, CMS, or his or her subordinates, which involved the exercise of the authority under section 1142(c)(6) [42 U.S.C. 1320b-12(c)(6)] of Title XI of the Act, as amended, delegated herein prior to the effective date of this delegation of authority.

Authority: 44 U.S.C. 3101.

Dated: April 8, 2010.
Kathleen Sebelius,
Secretary.

[FR Doc. 2010-8679 Filed 4-15-10; 8:45 am]

BILLING CODE 4120-01-P